DEPARTMENT OF LABOR

Bureau of International Labor Affairs

Request for Information on Efforts by Certain Countries To Eliminate the Worst Forms of Child Labor

AGENCY: The Bureau of International Labor Affairs, United States Department of Labor.

ACTION: Request for information on efforts by certain countries to eliminate the worst forms of child labor.

SUMMARY: This notice is a request for information for use in Department of Labor research regarding the implementation of international commitments to eliminate the worst forms of child labor by countries seeking benefits under the Generalized System of Preferences (GSP), and/or eligibility for additional benefits provided for in the Caribbean Basin Trade Partnership Act (CBTPA) or the African Growth and Development Act (AGOA).

The Trade and Development Act of 2000 (TDA) established a new eligibility criterion—concerning efforts to eliminate the worst forms of child labor—for receipt of these trade benefits. The TDA requires the Secretary of Labor to make annual findings with respect to beneficiary countries' implementation of their international commitments to eliminate the worst forms of child labor. The first annual report under the TDA was published on July 12, 2002. This information request is for use in producing the third report.

DATES: Submitters of information are requested to provide two (2) copies of their written submission to the International Child Labor Program at the address below by 5 p.m., August 1, 2003.

ADDRESSES: Written submissions should be addressed to Tina Faulkner at the International Child Labor Program, Bureau of International Labor Affairs, U.S. Department of Labor, 200 Constitution Avenue, NW., Room S-5307, Washington, DC 20210.

FOR FURTHER INFORMATION CONTACT: Tina Faulkner, Bureau of International Labor Affairs, International Child Labor Program, at (202)693-4846; fax (202)693-4830. The Department of Labor's international child labor reports can be read on the Internet at http://www.dol.gov/ILAB/media/reports/iclp/main.htm or can be obtained from the International Child Labor Program.

SUPPLEMENTARY INFORMATION: The Trade and Development Act of 2000 [Pub. L. 106-200], established new eligibility criteria concerning beneficiary country efforts to eliminate the worst forms of child labor for receipt of trade benefits under the GSP, CBTPA, and AGOA programs. The TDA amends the GSP reporting requirements of the Trade Act of 1974 (section 504) [19 U.S.C. 2464] to require that the President's annual report on the status of internationally recognized worker rights include “findings by the Secretary of Labor with respect to the beneficiary country's implementation of its international commitments to eliminate the worst forms of child labor.”

Title II of the TDA includes as a criteria for receiving benefits under the CBTPA “whether the country has implemented its commitments to eliminate the worst forms of child labor, as defined in section 507(6) of the Trade Act of 1974.” The TDA Conference Report (Joint Explanatory Statement of the Committee of Conference, 106th Cong.2d.sess. (2000)) indicates that “the conferees intend that the GSP standard, including the provision with respect to implementation of obligations to eliminate the worst forms of child labor, apply to eligibility for those additional benefits” (provided for in the AGOA.)

Scope of Report

Countries presently eligible under the GSP are: Afghanistan, Albania, Angola, Anguilla, Antigua and Barbuda, Argentina, Armenia, Bahrain, Bangladesh, Barbados, Belize, Benin, Bhutan, Bolivia, Bosnia and Herzegovina, Botswana, Brazil, British Virgin Islands, British Indian Ocean Territory, Bulgaria, Burkina Faso, Burundi, Cambodia, Cameroon, Cape Verde, Central African Republic, Chad, Chile, Christmas Islands, Cocos Islands, Colombia, Comoros, Congo (Brazzaville), Congo (Kinshasa), Cook Island, Costa Rica, Cote d'Ivoire, Croatia, Czech Republic, Djibouti, Dominica, Dominican Republic, Ecuador, Egypt, El Salvador, Equatorial Guinea, Eritrea, Estonia, Ethiopia, Falkland Islands, Fiji, Gabon, the Gambia, Gaza Strip, Georgia, Ghana, Gibraltar, Grenada, Guatemala, Guinea, Guinea-Bissau, Guyana, Haiti, Heard Island and MacDonald Islands, Honduras, Hungary, India, Indonesia, Jamaica, Jordan, Kazakhstan, Kenya, Kiribati, Kyrgyzstan, Latvia, Lebanon, Lesotho, Lithuania, Macedonia (former Yugoslav Republic of), Madagascar, Malawi, Mali, Mauritania, Mauritius, Moldova, Mongolia, Montserrat, Morocco, Mozambique, Namibia, Nepal, Niger, Nigeria, Niue, Norfolk Island, Oman, Pakistan, Panama, Papua New Guinea, Paraguay, Peru, Philippines, Pitcairn Island, Poland, Romania, Russia, Rwanda, Saint Helena, Saint Kitts and Nevis, Saint Lucia, Saint Vincent and the Grenadines, Samoa, Sao Tome and Principe, Senegal, Seychelles, Sierra Leone, Slovakia, Solomon Islands, Somalia, South Africa, Sri Lanka, Suriname, Swaziland, Tanzania, Thailand, Togo, Tokelau Island, Tonga, Trinidad and Tobago, Tunisia, Turkey, Turks and Caicos Islands, Tuvalu, Uganda, Uruguay, Uzbekistan, Vanuatu, Venezuela, Wallis and Futuna, West Bank, Western Sahara, Republic of Yemen, Zambia, and Zimbabwe.

Countries eligible or potentially eligible for additional benefits under the AGOA include: Benin, Botswana, Cameroon, Cape Verde, Central African Republic, Chad, Comoros, Congo (Kinshasa), Cote d'Ivoire, Djibouti, Eritrea, Ethiopia, Gabon, the Gambia, Ghana, Guinea, Guinea Bissau, Kenya, Lesotho, Madagascar, Malawi, Mali, Mauritania, Mauritius, Mozambique, Namibia, Niger, Nigeria, Rwanda, Sao Tome and Principe, Senegal, Seychelles, Sierra Leone, South Africa, Swaziland, Tanzania, Uganda, Zambia.

Countries potentially eligible for additional benefits under the CBTPA are: Barbados, Belize, Costa Rica, Dominican Republic, El Salvador, Guatemala, Guyana, Haiti, Honduras, Jamaica, Nicaragua, Panama, Saint Lucia, Trinidad and Tobago.

Information Sought

The Department invites interested parties to submit written information relevant to the findings to be made by the Department of Labor under the TDA, for all listed countries. Information provided through public submission will be considered by the Department of Labor in preparing its findings. Materials submitted should be confined to the specific topic of the study. In particular, the Department's Bureau of International Labor Affairs is seeking written submissions on the following topics:

1. Whether the country has adequate laws and regulations proscribing the worst forms of child labor;

2. Whether the country has adequate laws and regulations for the implementation and enforcement of such laws and regulations;

3. Whether the country has established formal institutional mechanisms to investigate and address complaints relating to allegations of the worst forms of child labor;

4. Whether social programs exist in the country to prevent the engagement of children in the worst forms of child labor, and to assist in the removal of children engaged in the worst forms of child labor;

5. Whether the country has a comprehensive policy for the elimination of the worst forms of child labor;

6. Whether the country is making continual progress toward eliminating the worst forms of child labor.

Information relating to the nature and extent of child labor in the country is also sought.

Definition of “Worst Forms of Child Labor”

The term “Worst Forms of Child Labor” in the TDA is defined by International Labor Organization (ILO) Convention No. 182, which defines a child as all persons under the age of 18, and the worst forms of child labor as comprising all forms of slavery or practices similar to slavery, such as the sale and trafficking of children, debt bondage and serfdom and forced or compulsory labor, including forced or compulsory recruitment of children for use in armed conflict; the use, procuring or offering of a child for prostitution, for the production of pornography or for pornographic performances; the use, procuring or offering of a child for illicit activities, in particular for the production and trafficking of drugs as defined in relevant international treaties; or any work which, by its nature or the circumstances in which it is carried out, is likely to harm the health, safety or morals of children.

The TDA Conference Report noted that the phrase,

* * * work which, by its nature or the circumstances in which it is carried out, is likely to harm the health, safety or morals of children * * *

is to be defined as in Article II of Recommendation No. 190, which accompanies ILO Convention No. 182. This includes work that exposes children to physical, psychological, or sexual abuse; work underground, under water, at dangerous heights or in confined spaces; work with dangerous machinery, equipment or tools, or work under circumstances which involve the manual handling or transport of heavy loads; work in an unhealthy environment that exposes children to hazardous substances, agents or processes, or to temperatures, noise levels, or vibrations damaging to their health; and work under particularly difficult conditions such as for long hours, during the night or under conditions where children are unreasonably confined to the premises of the employer.

The TDA Conference Report further indicated that the phrase,

* * * work which, by its nature or the circumstances in which it is carried out, is likely to harm the health, safety or morals of children * * *

be interpreted in a manner consistent with the intent of Article 4 of ILO Convention No. 182, which states that such work shall be determined by national laws or regulations or by the competent authority in the country involved.

This notice is a general solicitation of comments from the public.

Signed at Washington, DC this 20th day of June, 2003.
Arnold Levine,
Associate Deputy Under Secretary for International Labor Affairs.

[FR Doc. 03-16420 Filed 6-27-03; 8:45 am]

BILLING CODE 4510-28-P